DEPARTMENT OF COMMERCE

National Oceanic and Atmospheric Administration

50 CFR Part 226

RIN 0648-BD27

Proposed Designation of Marine Critical Habitat for the Loggerhead Sea Turtle, Caretta caretta, Under the Endangered Species Act; Public Hearing

AGENCY: National Marine Fisheries Service (NMFS), National Oceanic and Atmospheric Administration (NOAA), Commerce.

ACTION: Notice of public hearing.

SUMMARY: We, NMFS, will hold a public hearing related to our Proposed Designation of Marine Critical Habitat for the Loggerhead Sea Turtle, Caretta caretta, under the Endangered Species Act (ESA).

DATES: The public hearing will be held on November 21, 2013, from 7 p.m. to 9 p.m., with doors opening at 6:30 p.m.

ADDRESSES: The hearing will be held at:

• Dare County Administration Building, Dare County Board of Commissioners Meeting Room, 954 Marshall C. Collins Drive, Manteo, NC 27954.

FOR FURTHER INFORMATION CONTACT: Susan Pultz, NMFS Office of Protected Resources, Silver Spring, MD, telephone: 301-427-8472, email: susan.pultz@noaa.gov.

SUPPLEMENTARY INFORMATION:

Background

NMFS staff will present a brief overview of the Proposed Rule titled Designation of Critical Habitat for the Northwest Atlantic Ocean Loggerhead Sea Turtle Distinct Population Segment (DPS) and Determination Regarding Critical Habitat for the North Pacific Ocean Loggerhead DPS. Following this overview, members of the public will have the opportunity to go on record with comments on the proposed designation. Members of the public may also submit written comments at the hearing, or via the Federal e-Rulemaking Portal. To do the latter, go to http://www.regulations.gov/#!documentDetail;D=NOAA-NMFS-2013-0079, click the “Comment Now!” icon, complete the required fields, and enter or attach your comments. The proposed rule was published in the Federal Register on July 18, 2013 (78 FR 43006) and may be obtained at http://www.regulations.gov/#!documentDetail;D=NOAA-NMFS-2013-0079-0002 or https://www.federalregister.gov/articles/2013/07/18/2013-17204/endangered-and-threatened-species-designation-of-critical-habitat-for-the-northwest-atlantic-ocean. More information and background documents can be found at http://www.nmfs.noaa.gov/pr/species/turtles/loggerhead.htm. Scroll down to “Key Documents.”

Speaker Sign Up

Doors will open for registration at 6:30 p.m. for sign-up and seating. Time allotted will depend upon the number of speakers but will likely be limited to 5 minutes each. Registered speakers will be asked to indicate their full name, contact information, and the identity of any organizations on whose behalf they may be speaking.

Special Accommodations

The meeting is physically accessible to people with disabilities. Requests for auxiliary aids should be directed to Susan Pultz (see ADDRESSES) 3 days prior to the meeting.

Authority: 16 U.S.C. 1531 et seq.

Dated: October 29, 2013.
Donna S. Wieting,
Director, Office of Protected Resources National Marine Fisheries Service.

[FR Doc. 2013-26135 Filed 11-1-13; 8:45 am]

BILLING CODE 3510-22-P